DEPARTMENT OF DEFENSE

Contract Closeout

AGENCY: Department of Defense (DoD).

ACTION: Notice of public meeting.

SUMMARY: The Acting Director of Defense Procurement and Acquisition Policy (DPAP) is sponsoring a public meeting to discuss potential opportunities to streamline the contract closeout process for DoD contracts. The Acting Director of DPAP would like to hear the views of interested parties as to potential areas for facilitating the contract closeout process.

DATES: The public meeting will be held on September 21, 2005, from 9 a.m. until 4 p.m.

ADDRESSES: The meeting will be held at Marriott Crystal Gateway, 1700 Jefferson Davis Highway, Arlington, VA 22202.

Directions to the Marriot Crystal Gateway can be found on the Internet at http://www.acq.osd.mil/dpaptest/specificpolicy/contract_closeout.htm.

FOR FURTHER INFORMATION CONTACT: Mr. David Capitano, Senior Procurement Analyst, DPAP/Policy, by telephone at (703) 847-7486, by FAX at (703) 614-1254, or by e-mail at david.capitano@osd.mil.

SUPPLEMENTARY INFORMATION: A listing of some areas of discussion for the public meeting can be found on the Internet at http://www.acq.osd.mil/dpaptest/specificpolicy/contract_closeout.htm. The public meeting discussion is not limited to this listing; interested parties are encouraged to provide their views on all aspects of the contract closeout process.

Michele P. Peterson,
Editor, Defense Acquisition Regulations System.

[FR Doc. 05-15933 Filed 8-10-05; 8:45 am]

BILLING CODE 5001-08-P